DEPARTMENT OF TRANSPORTATION

Office of the Secretary

[Docket No. OST-2002-12170]

Surface Transportation Reauthorization

AGENCY: Office of the Secretary, Department of Transportation.

ACTION: Notice; request for comments.

SUMMARY: As a means of outreach to the traveling public and all users of the nation's surface transportation system, the United States Department of Transportation will establish a new surface transportation reauthorization page on the world wide web at http://www.dot.gov and will make available a brochure on this subject. This outreach through the web page and the brochure is intended to stimulate public input and comments concerning the Department's proposal for reauthorization of the surface transportation programs which will succeed the Transportation Equity Act for the 21st Century (TEA-21) which is due to expire at the end of September 2003.

The web page and the brochure are also intended to provide a description of the Department's approach in the reauthorization of TEA-21. The principles found in the brochure and web page represent the Department's current approach and are included here as a means of stimulating public comment, and are not intended to be exclusive of other ideas. The web page will be updated regularly. The web page will also serve as a link to other transportation related web sites.

DATES: Comments may be submitted at any time before January 1, 2003.

ADDRESSES: Comments concerning the reauthorization of TEA-21 are strongly encouraged in electronic form. Instructions for submitting comments electronically will be found on the web page at http://www.dot.gov.

Comments may also be submitted in written form by mailing them to the Dockets Management System, U.S. Department of Transportation, 400 Seventh Street, SW., Washington, DC 20590-0001. Comments should identify Docket Number OST-2002-12170.

Due to the expectation of large volumes of public comments, the Department will not be able to respond directly to individual comments in either electronic or written form. All comments will, however, be posted to the public web site and therefore will be available for viewing by the general public. The comments will also be compiled and reviewed by the Department. Submitters using the electronic form may choose to receive additional TEA-21 information in the future.

FOR FURTHER INFORMATION CONTACT: 1 (800) 647-5527, U.S. Department of Transportation Docket Services.

SUPPLEMENTARY INFORMATION:

Building On TEA-21—Core Principles

• Assure adequate and predictable funding for investment in the Nation's transportation system. This funding can contribute to the long-term health of the economy and, by enhancing the mobility of people and goods, promote greater productivity and efficiency.

• Preserve State and local government funding flexibility to allow the broadest application of funds to transportation solutions.

• Build on the intermodal approaches of the Intermodal Surface Transportation Efficiency Act of 1991 (ISTEA) and TEA-21.

• Expand and improve innovative financing programs in order to encourage greater private sector investment in the transportation system, and examine other means to augment existing trust funds and revenue streams.

• Address the security of the Nation's surface transportation system.

• Make substantial improvements in the safety of the Nation's surface transportation system. It is not acceptable that the Nation suffers 41,000 deaths and over 3 million injuries annually on the highway system.

• Strengthen the efficiency and integration of the Nation's system of goods movement by improving international gateways and points of intermodal connection.

• Simplify Federal transportation programs and continue efforts to streamline project approval and implementation.

• Develop the data and analyses critical to sound transportation decision making.

• Foster intelligent transportation systems as a means to improve safety, reduce congestion and protect the environment.

• Improve on the performance of the entire transportation system through better planning, management, construction, operations, asset management, maintenance and construction.

• Increase accessibility to transportation so that all Americans can enjoy its benefits.

• Ensure an efficient infrastructure while retaining environmental protections that enhance our quality of life.

Issued in Washington DC on June 18, 2002.
Sean B. O'Hollaren,
Assistant Secretary for Governmental Affairs.

[FR Doc. 02-15803 Filed 6-21-02; 8:45 am]

BILLING CODE 4910-62-P